DEPARTMENT OF JUSTICE

Notice of Lodging of Proposed Consent Decree Under the Clean Water Act

Notice is hereby given that on August 25, 2010, a proposed Consent Decree (“Consent Decree”) in United States v. City of Revere, Massachusetts, Civil Action No. 1:10-cv-11460 was lodged with the United States District Court for the District of Massachusetts.

In a complaint, filed simultaneously with the Decree, the United States alleges that the City of Revere, Massachusetts (“City”) violated Sections 301 and 308 of the Clean Water Act, 33 U.S.C. 1311 and 1318, as a result of unauthorized discharges of pollutants including raw sewage from the City's sanitary sewer system and its separate storm sewer system, as well as a failure to report sanitary sewer overflows to the United States Environmental Protection Agency. The proposed Consent Decree resolves the United States' claims for civil penalties and injunctive relief, as alleged in the complaint. Specifically, the proposed Consent Decree requires the City to implement remedial measures, including necessary upgrades to its sanitary sewer system and separate storm sewer system, over a period of approximately twelve years and at an estimated cost of approximately $50 million. The Consent Decree also requires the City to pay a $130,000 civil penalty.

The Department of Justice will receive, for a period of thirty (30) days from the date of this publication, comments relating to the Consent Decree. Comments should be addressed to the Assistant Attorney General, Environment and Natural Resources Division, and either e-mailed to pubcomment-ees.enrd@usdoj.gov or mailed to P.O. Box 7611, United States Department of Justice, Washington, DC 20044-7611, and should refer to United States v. City of Revere, Massachusetts, D.J. Ref. 90-5-1-1-09299.

The Consent Decree may be examined at the Office of the United States Attorney, One Courthouse Way, John Joseph Moakley Courthouse, Boston, Massachusetts 02210, and at U.S. EPA Region 1, Office of Regional Counsel, 5 Post Office Square, Suite 100, Boston, Massachusetts 02109. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check to cover the 25 cents per page reproduction costs in the amount of $16.25 (for Decree without appendix) or $71.75 (for Decree with appendix) payable to the U.S. Treasury or, if by e-mail or fax, forward a check in that amount to the Consent Decree Library at the stated address.

Maureen Katz,
Assistant Chief, Environmental Enforcement Section, Environment and Natural Resources Division.

[FR Doc. 2010-21569 Filed 8-30-10; 8:45 am]

BILLING CODE 4410-15-P